DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of Federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Phage Display Plasmids With Improved Expression Properties for Human and Chimeric Nonhuman/Human Fab Libraries

Description of Invention: The Fab molecule was the first generated antibody fragment and still dominates basic research and clinical applications. New phage display vectors were designed to generate and select Fab libraries with human constant domains. These vectors facilitate bacterial expression of human, humanized, and chimeric nonhuman/human Fab antibody fragments. They differ from currently available pComb3H and pComb3X phage display vectors by assembling human and chimeric nonhuman/human Fab libraries in two rather than three PCR steps. As a result, these novel constructs retain the initial variable light and heavy chain sequences and improve the resulting Fab library's complexity in terms of number, diversity, and affinity. These constructs were developed with and without a His tag and yield approximately 100 μg to 2 mg of protein, which can be used for evaluation and characterization of Fab binding properties such as affinity and specificity. Notably, the His tag provides a handle to easily purify Fab.

Applications

• Generation of human, humanized, and chimeric nonhuman/human Fab antibody fragments.

• Research tool to characterize Fab antibody fragments.

Advantages

• Improved Fab library with complexity and number, diversity, and affinity.

• His tag construct allows for simplified purification assays.

Inventor: Christoph Rader (NCI).

Relevant Publications

1. KY Kwong and C Rader. E. coli expression and purification of Fab antibody fragments. Curr Protoc Protein Sci. 2009 Feb;Chapter 6:Unit 6.10.

2. T Hofer et al. Chimeric rabbit/human Fab and IgG specific for members of the Nogo-66 receptor family selected for species cross-reactivity with an improved phage display vector. J Immunol Methods. 2007 Jan 10;318(1-2):75-87.

Patent Status: HHS Reference No. E-008-2010/0—Research Tool. Patent protection is not being pursued for this technology.

Licensing Status: Available for licensing.

Licensing Contact: Jennifer Wong; 301-435-4633; wongje@mail.nih.gov.

Potent and Selective Inhibitors of Human Lipoxygenase for Prostate Cancer Therapy

Description of Invention: With more than $2 billion in revenues in the US in 2007, the market for diagnostic and therapeutic products for prostate cancer is substantial. More than 2,000,000 American men currently live with prostate cancer and more than 200,000 new cases are diagnosed each year.

Researchers led by Dr. David Maloney at the National Human Genome Research Institute (NHGRI) have discovered several novel compounds that selectively and potently inhibit lipoxygenase (LOX), an enzyme that metabolizes polyunsaturated fatty acids which has been implicated in the pathogenesis of prostate cancers. These novel compounds are small molecules, and as such have an advantage over antibody-based technologies in this market. As prostate cancer is the most commonly diagnosed malignancy among men in the USA and Europe, the significant need for new therapies suggests that these novel LOX inhibitor compounds have a strong potential of reaching the marketplace.

Applications

• Therapeutics for prostate cancer.

• Therapeutics for several other LOX-associated pathologies including atherosclerosis, asthma, other cancers, glomerulonephritis, osteoporosis, and Alzheimer's disease.

Advantages

• Potent and selective inhibitory activity to reduce negative side effects.

• Compounds are small molecules (less immunogenic than antibodies).

Development Status: Pre-clinical.

Inventors: David Maloney et al. (NHGRI).

Relevant Publications

1. V Kenyon et al. Novel human lipoxygenase inhibitors discovered using virtual screening with homology models. J Med Chem. 2006 Feb 23;49(4):1356-1363.

2. JD Deschamps et al. Baicalein is a potent in vitro inhibitor against both reticulocyte 15-human and platelet 12-human lipoxygenases. Bioorg Med Chem. 2006 Jun 15;14(12):4295-4301.

3. Y Vasquez-Martinez et al. Structure-activity relationship studies of flavonoids as potent inhibitors of human platelet 12-hLO, reticulocyte 15-hLO-1, and prostate epithelial 15-hLO-2. Bioorg Med Chem. 2007 Dec 1;15(23):7408-7425.

4. J Inglese et al. Quantitative high-throughput screening: a titration-based approach that efficiently identifies biological activities in large chemical libraries. Proc Natl Acad Sci USA. 2006 Aug 1;103(31): 11473-11478.

Patent Status: U.S. Provisional Application No. 61/238,972 filed 01 Sep 2009 (HHS Reference No. E-252-2009/0-US-01).

Licensing Status: Available for licensing.

Licensing Contact: Patrick P. McCue, Ph.D.; 301-435-5560; mccuepat@mail.nih.gov.

Collaborative Research Opportunity: The NIH Chemical Genomics Center, NHGRI, is seeking statements of capability or interest from parties interested in collaborative research to further develop, evaluate, or commercialize this technology. Please contact Claire Driscoll at cdriscol@mail.nih.gov or 301-594-2235 for more information.

Dated: November 13, 2009.
Richard U. Rodriguez,
Director, Division of Technology Development and Transfer, Office of Technology Transfer, National Institutes of Health.

[FR Doc. E9-27925 Filed 11-19-09; 8:45 am]

BILLING CODE 4140-01-P